DEPARTMENT OF THE INTERIOR

Bureau of Ocean Energy Management

[Docket No. BOEM-2014-0011; MMAA104000]

Commercial Wind Lease Issuance and Site Assessment Activities on the Atlantic Outer Continental Shelf (OCS) Offshore Massachusetts

AGENCY: Bureau of Ocean Energy Management (BOEM), Interior.

ACTION: Notice of the Availability of a Revised Environmental Assessment (EA) and a Finding of No Significant Impact (FONSI).

SUMMARY: BOEM has prepared a revised EA considering the reasonably foreseeable environmental and socioeconomic effects of issuing renewable energy leases and lessees' subsequent site characterization activities (e.g., geophysical, geotechnical, archaeological, and biological surveys) and site assessment activities (including the installation and operation of meteorological towers and buoys) on those leases that may be issued in the Wind Energy Area (WEA) on the OCS offshore Massachusetts (MA). The purpose of this notice is to inform the public of the availability of the revised EA and FONSI, which can be accessed online at: http://www.boem.gov/State-Activities-Massachusetts.

In accordance with the requirements of the National Environmental Policy Act (NEPA) and the Council on Environmental Quality's (CEQ) regulations implementing NEPA at 40 CFR 1500-1508, BOEM issued a FONSI supported by the analysis in the revised EA. The FONSI concluded that the reasonably foreseeable environmental impacts associated with the proposed action and alternatives, as set forth in the EA, would not significantly impact the quality of the human environment; therefore, the preparation of an Environmental Impact Statement (EIS) is not required.

Authority: This notice is published pursuant to 43 CFR 46.305.

FOR FURTHER INFORMATION CONTACT: Michelle Morin, BOEM Office of Renewable Energy Programs, 381 Elden Street, HM 1328, Herndon, Virginia 20170-4817, (703) 787-1340 or michelle.morin@boem.gov.

SUPPLEMENTARY INFORMATION: On November 2, 2012, BOEM published a Notice of Availability (NOA) of an EA, requesting public comment on alternatives considered in that 2012 EA. In addition, comments were requested on measures to mitigate impacts to environmental resources and socioeconomic conditions that could potentially occur in the MA WEA and surrounding areas as a result of leasing, site characterization, and site assessment activities in those areas (77 FR 66185).

The 2012 EA considered the impacts that could result from leasing the entire MA WEA and BOEM's approval of site assessment plans within that area. Comments received in response to the 2012 NOA can be viewed at: http://www.regulations.gov by searching for Docket ID BOEM-2012-0086.

Based on comments received on the 2012 EA, and results of required consultations (e.g., Endangered Species Act), BOEM revised the 2012 EA. BOEM will use this revised EA to inform decisions to issue leases in the MA WEA, and to subsequently approve Site Assessment Plans (SAPs) on those leases. BOEM may issue one or more commercial wind energy leases in the MA WEA. The competitive lease process is set forth at 30 CFR 585.210-585.225.

A commercial lease gives the lessee the exclusive right to seek BOEM approval for the development of the leasehold. The lease does not grant the lessee the right to construct any facilities; rather, the lease grants the lessee the right to use the leased area to develop its plans, which BOEM must approve before the lessee may proceed to the next stage of the process. See 30 CFR 585.600 and 585.601. In the event that a particular lease is issued, and the lessee submits a SAP, BOEM would then determine whether the revised EA adequately considers the environmental consequences of the activities proposed in the lessee's SAP. If BOEM determines that the analysis in the revised EA adequately considers these consequences, then no further analysis under NEPA would be required and BOEM could approve the SAP. If, on the other hand, BOEM determines that the analysis in this revised EA is inadequate for that purpose, BOEM would prepare additional NEPA analysis before it could approve the SAP.

If a lessee is prepared to propose a wind energy generation facility on its lease, it would submit a Construction and Operations Plan (COP). BOEM then would prepare a separate site- and project-specific NEPA analysis of the proposed project. This analysis would likely take the form of an EIS in which BOEM would evaluate the reasonably foreseeable environmental and socioeconomic consequences of the proposed project. The EIS would provide the public and Federal officials with comprehensive information regarding the reasonably foreseeable environmental impacts of the proposed project and would inform BOEM's decision to approve, approve with modification, or disapprove a lessee's COP pursuant to 30 CFR 585.628. This process would include additional opportunities for public involvement pursuant to NEPA.

Dated: June 10, 2014.
Walter D. Cruickshank,
Acting Director, Bureau of Ocean Energy Management.

[FR Doc. 2014-14004 Filed 6-17-14; 8:45 am]

BILLING CODE 4310-MR-P